DEPARTMENT OF AGRICULTURE

National Agricultural Library

Notice of Intent To Seek Approval To Collect Information

AGENCY: Agricultural Research Service, National Agricultural Library, United States Department of Agriculture.

ACTION: Notice and Request for comments.

SUMMARY: In accordance with the Paperwork Reduction Act of 1995 (Pub. L. 104-13) and Office of Management and Budget (OMB) regulations at 5 CFR Part 1320 (60 FR 44978, August 29, 1995), this notice announces the National Agricultural Library's (NAL) intent to request approval to collect information via an online form. This voluntary form will be used by the Supplemental Nutrition Assistance Program Education (SNAP-Ed) personnel and nutrition education material developers to submit materials for review, and possible inclusion in the SNAP-Ed Connection Resource Finder. The following materials may be submitted: obesity prevention education materials targeting Supplemental Nutrition Assistance Program-eligible persons; materials related to the development, implementation, administration, and evaluation of SNAP-Ed programs; reports or other materials that demonstrate the effectiveness of SNAP-Ed funded programs; other materials developed by SNAP-Ed funded programs. The SNAP-Ed Connection Resource Finder may be used by SNAP-Ed personnel and others to easily search for resources and to learn about the work of other SNAP-Ed programs.

DATES: Comments on this notice must be received by June 2, 2014 to be assured of consideration.

ADDRESSES: Address all comments concerning this notice to Jennifer Anderson, Acting Team Leader, Food and Nutrition Information Center, National Agricultural Library, 10301 Baltimore Avenue Beltsville, Maryland, 20705-2351, telephone (301) 504-6321 or fax (301) 504-6409. Submit electronic comments to jennifer.anderson@ars.usda.gov.

SUPPLEMENTARY INFORMATION:

Title: SNAP-Ed Connection Resource Sharing Form

OMB Number: PRA# 0518-0031

Expiration Date: Three years from date of approval

Type of Request: Renewal of existing data collection from SNAP-Ed personnel and nutrition education material developers. The previous data collection was titled the Food Stamp Nutrition Connection Sharing Form.

Abstract: In 2001, the United States Department of Agriculture's Food and Nutrition Service (FNS) established the Food Stamp Nutrition Connection to improve access to Food Stamp Program Education resources. In 2008, the Web site was renamed the SNAP-Ed Connection. The Web site is developed and maintained at the NAL FNIC. The SNAP-Ed Connection is a resource Web site for SNAP-Ed administrators and educators. SNAP-Ed personnel use the SNAP-Ed Connection Web site to locate curricula, participant materials, nutrition research, administrative documents, and information regarding SNAP-Ed program development, implementation, and evaluation. This resource Web site helps SNAP-Ed personnel find the tools and information they need to implement high-quality evidence-based obesity prevention programs.

The SNAP-Ed Connection Resource Finder is an online database of SNAP-Ed-related materials. The SNAP-Ed Connection Resource Sharing Form gives SNAP-Ed personnel, as well as those who develop nutrition education materials, the opportunity to voluntarily share information about resources that can be used to administer, develop, implement, evaluate, or showcase SNAP-Ed programs. Information collected via this form enables the SNAP-Ed Connection staff to review materials for possible inclusion in the SNAP-Ed Connection Resource Finder. SNAP-Ed personnel and other interested parties then search this database via the SNAP-Ed Connection Web site http://snap.nal.usda.gov to locate materials of interest. By using this database, SNAP-Ed-funded programs can share resources with each other, reduce duplication of efforts, and improve program quality. SNAP-Ed-funded programs can also learn about useful nutrition education materials created by other organizations.

Individuals may complete the form online or print the form and return it via mail. Respondents will provide contact information, ordering information, and information about the resource they are submitting. If the material is educational in nature, the respondents will be asked to complete additional questions about the resource. Respondents will also have the option of uploading documents and submitting multiple resources at one time.

Estimate of Burden: Public reporting burden for this collection of information is estimated to average 10 minutes per response.

Respondents: SNAP-Ed personnel and others who develop nutrition education materials

Estimated Number of Respondents: 170 per year.

Estimated Total Annual Burden on Respondents: 132.5 hours

Comments: Comments are invited on (a) whether the proposed collection of information is necessary for the proper performance of Agency functions, including whether the information will have practical utility; (b) the accuracy of the Agency's estimate of the burden of the proposed collection of information, including the validity of the methodology, and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: March 14, 2014.
Caird E. Rexroad, Jr.,
Associate Administrator, Agricultural Research Service.

[FR Doc. 2014-07224 Filed 3-31-14; 8:45 am]

BILLING CODE 3410-03-P